AGENCY FOR INTERNATIONAL DEVELOPMENT

48 CFR Parts 701, 702, 704, 705, 706, 715, 719, 725, 731, 742, 750, and 752

RIN 0412-AA88

U.S. Agency for International Development Acquisition Regulation; Administrative Updates

AGENCY: U.S. Agency for International Development.

ACTION: Proposed rule.

SUMMARY: The U.S. Agency for International Development (USAID) seeks public comment on a proposed rule that would revise the Agency for International Development Acquisition Regulation (AIDAR) to maintain consistency with Federal and Agency regulations, remove obsolete material and internal Agency procedures, and make editorial amendments to better clarify the regulation.

DATES: Comments must be received no later than February 22, 2024.

ADDRESSES: Submit comments, identified by the title of the action and Regulatory Information Number (RIN) through the Federal eRulemaking Portal at https://www.regulations.gov by following the instructions for submitting comments. Please include your name, company name (if any), and “0412-AA88” on any attachments. If your comment cannot be submitted using https://www.regulations.gov, call or email the point of contact in the FOR FURTHER INFORMATION CONTACT section of this document for alternate instructions.

FOR FURTHER INFORMATION CONTACT: Lyudmila Bond, Telephone: 202-916-2622 or Email: policymailbox@usaid.gov.

SUPPLEMENTARY INFORMATION:

A. Providing Accountability Through Transparency Act of 2023

The Providing Accountability Through Transparency Act of 2023 (12 U.S.C. 553(b)(4)) requires that a notice of proposed rulemaking include the internet address of a summary of not more than 100 words in length of the proposed rule, in plain language, that shall be posted on the internet website under section 206(d) of the E-Government Act of 2002 (44 U.S.C. 3501 note). In summary: “USAID seeks public comment on a proposed rule that would revise the AIDAR to maintain consistency with Federal and Agency regulations, remove obsolete material and internal Agency procedures, and make editorial amendments to better clarify the regulation. For detailed information on these revisions, please see a final rule with the same RIN and title.”

The proposal, including the summary provided herein, can be found at https://www.regulations.gov.

B. Additional Information

USAID is publishing in the “Rules and Regulations” section of this Federal Register a final rule with the same title that identifies administrative and editorial revisions to the AIDAR. USAID is publishing these changes in the direct final rule because the Agency views it as a conforming and administrative amendment and does not anticipate any adverse comments. A detailed discussion of revisions proposed to the AIDAR is set forth in the preamble of the direct final rule.

If no significant adverse comment is received in response to the direct final rule, no further action will be taken related to this proposed rule.

If significant adverse comment(s) are received on the direct final rule, USAID will publish a timely withdrawal in the Federal Register informing the public changes to what AIDAR part(s) or subpart(s), as announced in the direct final rule, will not take effect. Any portions of the final rule for which no significant adverse comment is received will become final after the designated period. All public comments received on the direct final rule will be addressed in a subsequent final rule based on this proposed rule. USAID will not institute a second comment period. Any parties interested in commenting on this action should do so at this time.

C. Instructions

All comments must be in writing and submitted through one of the methods specified in the Addresses section above. All submissions must include the title of the action and RIN for this rulemaking. Please include your name, title, organization, postal address, telephone number, and email address in the text of the message. Please note, however, that because security screening precautions have slowed the delivery and dependability of surface mail to USAID/Washington, USAID recommends sending all comments to the Federal eRulemaking Portal.

All comments received will be posted without change to the Federal eRulemaking Portal including any personal information provided.

As noted above, in the “Rules and Regulations” section of this Federal Register, USAID is publishing a direct final rule with the same title that announces revisions to the Agency for International Development Acquisition Regulation (AIDAR). For detailed information on these revisions, please see the direct final rule.

Deborah Broderick,
Acting Chief Acquisition Officer.

[FR Doc. 2023-27952 Filed 1-22-24; 8:45 am]

BILLING CODE 6116-01-P